DEPARTMENT OF EDUCATION

Office of Special Education and Rehabilitative Services

Applications for New Awards for Fiscal Year 2003

AGENCY: Department of Education.

ACTION: Notice inviting applications for new awards for fiscal year (FY) 2003.

SUMMARY: This notice announces closing dates, priorities, and other information regarding the transmittal of grant applications for FY 2003 competitions under four programs authorized under part D, subpart 2 of the Individuals with Disabilities Education Act, as amended. The four programs are: (1) Special Education—Research and Innovation to Improve Services and Results for Children with Disabilities (five priorities); (2) Special Education-Personnel Preparation to Improve Services and Results for Children with Disabilities (four priorities); (3) Special Education-Technology and Media Services for Individuals with Disabilities (one priority) and (4) Special Education—Training and Information for Parents of Children with Disabilities (one priority).

Please note that significant dates for the availability and submission of applications, as well as important fiscal information, are listed in a table at the end of this notice.

Waiver of Rulemaking

It is generally our practice to offer interested parties the opportunity to comment on proposed priorities. However, section 661(e)(2) of IDEA makes the rulemaking procedures in the Administrative Procedure Act (5 U.S.C. 553) inapplicable to the priorities in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application, an applicant must address only one absolute priority in this notice.

(e) If a project maintains a Web site, it must include relevant information and documents in an accessible form.

Page Limit: If you are an applicant, Part III of each application, the application narrative, is where you address the selection criteria that are used by reviewers in evaluating the application. You must limit Part III to the equivalent of no more than the number of pages listed in the table at the end of this notice, using the following standards:

• A “page” is 8.5″ × 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I—the cover sheet; Part II—the budget section, including the narrative budget justification; Part IV, the assurances and certifications; or the one-page abstract, the resumes, the bibliography or references, or the letters of support. However, you must include all of the application narrative in Part III.

We will reject without consideration or evaluation any application if —

• You apply these standards and exceed the page limit; or

• You apply other standards and exceed the equivalent of the page limit.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Project for Electronic Submission of Applications

In Fiscal Year 2003, the U.S. Department of Education is continuing to expand its pilot project of electronic submission of applications to include additional formula grant programs and additional discretionary grant competitions. The four programs in this announcement: Research and Innovation to Improve Services and Results for Children with Disabilities—CFDA 84.324, Personnel Preparation to Improve Services and Results for Children with Disabilities—CFDA 84.325, Technical Assistance and Dissemination to Improve Services and Results for Children with Disabilities—CFDA 84.326, and Training and Information for Parents of Children with Disabilities—CFDA 84.328 are included in the pilot project. If you are an applicant for a grant under any of the four programs, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value or penalty because you submit a grant application in electronic format, nor will we penalize you if you submit an application in paper format. When you enter the e-Application system, you will find information about its hours of operation.

• You can submit all documents electronically, including the Application for Federal Assistance (ED 424), Budget Information—Non-Construction Programs (ED 524), and all necessary assurances and certifications.

• After you electronically submit your application, you will receive an automatic acknowledgement, which will include a PR/Award number (an identifying number unique to your application).

• Within three working days of submitting your electronic application, fax a signed copy of the Application for Federal Assistance (ED 424) to the Application Control Center after following these steps:

1. Print ED 424 from the e-Application system.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for any of the four programs in this announcement and you are prevented from submitting your application on the closing date because the e-Application system is unavailable, we will grant you an extension of one business day in order to transmit your application electronically, by mail or hand delivery. For us to grant this extension—

(1) You must be a registered user of e-Application, and have initiated an e-Application for this competition; and

(2)(a) The e-Application system must be unavailable for 60 minutes or more between the hours of 8:30 and 3:30 p.m., Washington, DC time, on the deadline date; or

(b) The e-Application system must be unavailable for any period of time during the last hour of operation (that is, for any period of time between 3:30 p.m. and 4:30 p.m., Washington, DC time) on the deadline date.

The Department must acknowledge and confirm these periods of unavailability before granting you an extension.

To request this extension you must contact either (1) The Grants and Contracts Services Team listed elsewhere in this notice under FOR FURTHER INFORMATION CONTACT or (2) the e-GRANTS help desk at 1-888-336-8930.

You may access the electronic grant application for each of the four programs included in this notice at: http://e-grants.ed.gov.

We have included additional information about the e-Application pilot project (see Parity Guidelines between Paper and Electronic Applications) in the application packages.

Due to the upgrading of software, we anticipate that the e-Application system will be unavailable for several days in mid-December. The tentative schedule for this down time is from 7 p.m., December 12, until 6 a.m., December 16, Washington, DC time. Please check http://e-grants.ed.gov for any updates on the unavailability of the e-Application system.

Research and Innovation To Improve Services and Results for Children With Disabilities [CFDA Number 84.324]

Purpose of Program: To produce, and advance the use of, knowledge to improve the results of education and early intervention for infants, toddlers, and children with disabilities.

Eligible Applicants: State educational agencies (SEAs); local educational agencies (LEAs); institutions of higher education (IHEs); other public agencies; nonprofit private organizations; outlying areas; freely associated States; and Indian tribes or tribal organizations.

Applicable Regulations: (a) The Education Department General Administrative Regulations (EDGAR) in 34 CFR parts 74, 75, 77, 80, 81, 82, 85, 86, 97, 98, and 99; and (b) The selection criteria, chosen from the EDGAR general selection criteria in 34 CFR 75.210. The specific selection criteria for each priority are included in the application package for that competition.

Note: The regulations in 34 CFR part 86 apply to IHEs only.

Priorities

Under 34 CFR 75.105(c)(3), we consider only applications that meet one of the following priorities:

Absolute Priority 1—Student-Initiated Research Projects (84.324B)

This priority supports short-term (up to 12 months) postsecondary student-initiated research projects focusing on special education and related services for children with disabilities and early intervention services for infants and toddlers with disabilities, consistent with the purposes of the program, as described in section 672 of IDEA.

Projects must—

(a) Develop research skills in postsecondary students; and

(b) Include a principal investigator who serves as a mentor to the student researcher while the project is carried out by the student.

Project Period: Up to 12 months.

Absolute Priority 2—Field-Initiated Research Projects (84.324C)

This priority supports a wide range of field-initiated research projects that promote innovation, development, exchange, and the transfer of research into knowledge and practice as described in section 672 of IDEA including the improvement of early intervention, instruction, and learning for infants, toddlers, and children with disabilities.

Projects must—

(a) Adhere to rigorous, scientific methods and standards;

(b) Prepare their procedures, findings, and conclusions in a manner that will improve results for children with disabilities by informing other interested researchers and advancing professional practice or improving programs and services to infants, toddlers, and children with disabilities and their families; and

(c) Disseminate project procedures, findings, and conclusions to appropriate research institutes and technical assistance providers.

Invitational Priorities

Within absolute priority 2 for FY 2003, we are particularly interested in applications that meet one or more of the following invitational priorities.

(a) Projects to address the specific problems of over-identification and under-identification of children with disabilities. (See section 672(a)(3) of IDEA).

(b) Projects to develop and implement effective strategies for addressing inappropriate behavior of students with disabilities in schools, including strategies to prevent children with emotional and behavioral problems from developing emotional disturbances that require the provision of special education and related services. (See section 672(a)(4) of IDEA).

(c) Projects studying and promoting improved alignment and compatibility of regular and special education reforms concerned with curriculum and instruction, evaluation and accountability, and administrative procedures in order to improve results for children with disabilities. (See section 672(b)(2)(D) of IDEA).

(d) Projects that advance knowledge about the coordination of education with health and social services in order to improve results for children with disabilities and their families. (See section 672(b)(2)(G) of IDEA).

(e) Projects that address causal questions which employ randomized experimental designs.

Under 34 CFR 75.105(c)(1) we do not give to an application that meets one or more of these invitational priorities a competitive or absolute preference over other applications.

Project Period: The majority of projects will be funded for up to 36 months. Only in exceptional circumstances—such as research questions that require repeated measurement within a longitudinal design—will projects be funded for more than 36 months, up to a maximum of 60 months.

Absolute Priority 3—Model Demonstration Projects for Children With Disabilities (84.324M)

This priority supports model demonstration projects that develop, implement, evaluate, and disseminate new or improved approaches for providing early intervention, educational, and related services to infants, toddlers, and children with disabilities and students with disabilities who are pursuing post-school employment, postsecondary education, or independent living goals. Projects supported under this priority are expected to be major contributors of models or components of models for service providers and for outreach projects funded under IDEA.

Requirements for All Demonstration Projects

(a) A model demonstration project must—

(1) Develop and implement the model with specific components or strategies that are based on theory, research, or evaluation data documenting improved results;

(2) Determine the effectiveness of the model and its components or strategies by using multiple measures of results; and

(3) Produce detailed procedures and materials that would enable others to replicate the model.

(b) Federal financial participation for a project funded under this priority will not exceed 90 percent of the total annual costs of the project (see section 661(f)(2)(A) of IDEA).

Within absolute priority 3, we intend to fund no more than two projects focusing on postsecondary education for students with disabilities.

Competitive Preference

Within this absolute priority we will give the following competitive preference points under 34 CFR 75.105(c)(2)(i) to applications that are otherwise eligible for funding under this priority.

Up to ten (10) points to an application that proposes to employ randomized experimental designs in conducting evaluations.

Therefore, for the purpose of this competitive preference, an applicant can be awarded up to a total of 10 points in addition to those awarded under the published selection criteria for this priority. That is, an applicant meeting this competitive preference could earn a maximum total of 110 points.

Project Period: Up to 48 months.

Absolute Priority 4—Initial Career Awards (84.324N)

Background

There is a need to enable individuals in the initial phases of their careers to initiate and develop promising lines of research that would improve results for children with disabilities and their families through better early intervention services for infants and toddlers, and special education and related services for children with disabilities. Support for research activities among individuals in the initial phases of their careers is intended to develop the capacity of the early intervention and special education research community to more effectively meet the needs of children with disabilities and their families. This priority addresses the additional need to provide support for a broad range of field-initiated research projects—focusing on the special education and related services for children with disabilities and early intervention for infants and toddlers—consistent with the purpose of the program as described in section 672 of IDEA.

Priority

The purpose of this priority is to award grants to eligible applicants for the support of individuals in the initial phases of their careers to initiate and develop promising lines of research consistent with the purposes of the program. For purposes of this priority, the initial phase of an individual's career is considered to be the first three years after completing a doctoral program and graduating (i.e., for FY 2003 awards, projects may support individuals who completed a doctoral program and graduated no earlier than the 1999-2000 academic year).

At least 50 percent of the initial career researcher's time must be devoted to the project.

Projects must—

(a) Pursue a line of research that is developed either from theory or a conceptual framework. The line of research must establish directions for designing future studies extending beyond the support of this award. The project is not intended to represent all inquiry related to the particular theory or conceptual framework; rather, it is expected to initiate a new line or advance an existing one;

(b) Include, in design and conduct, sustained involvement with one or more nationally recognized experts having substantive or methodological knowledge and expertise relevant to the proposed research. The experts do not have to be at the same institution or agency at which the project is located, but the interaction with the project must be sufficient to develop the capacity of the initial career researcher to effectively pursue the research into mid-career activities;

(c) Prepare procedures, findings, and conclusions in a manner that improves results for children with disabilities by informing other interested researchers and is useful for advancing professional practice or improving programs and services to infants, toddlers, and children with disabilities and their families; and

(d) Disseminate project procedures, findings, and conclusions to appropriate research institutes and technical assistance providers.

Invitational Priority

Within absolute priority 4 for FY 2003, we are particularly interested in applications that meet the following invitational priority. Projects that include, in the design and conduct of the research project, a practicing teacher or clinician, in addition to the required involvement of nationally recognized experts.

Under 34 CFR 75.105(c)(1) we do not give an application that meets the invitational priority a competitive or absolute preference over other applications.

Project Period: Up to 36 months.

Absolute Priority 5—Outreach Projects for Children with Disabilities (84.324R)

This priority supports projects that will improve results by assisting educational and other agencies in replicating proven models, components of models, and other exemplary practices that improve services for infants, toddlers, children with disabilities, and students with disabilities who are pursuing post-school employment, postsecondary education, or independent living goals.

For the purposes of this priority, a “proven model” is a comprehensive description of a theory or system that, when applied, has been shown to be effective through scientifically based research. “Exemplary practices” are effective strategies and methods used to deliver educational, related, or early intervention services.

The models, components of models, or exemplary practices that are selected for outreach may include those developed for preservice and inservice personnel preparation. However, they do not need to have been developed through projects funded under IDEA, or by the applicant.

Applicants must:

(a) Provide supporting data or other documentation in the application showing how scientifically based research demonstrates the effectiveness of the model, components of a model, or exemplary practices selected for outreach.

(b) Specify in the application if the primary focus of the models, components of models, or exemplary practices intended for outreach are for preservice or inservice personnel preparation.

Projects must—

(a) Select implementation sites in multiple regions within one State or multiple States and describing the criteria for their selection;

(b) Describe the expected costs, needed personnel, staff training, equipment, and sequence of implementation activities associated with the replication efforts, including a description of any modifications to the model or practice made by the sites;

(c) Include public awareness, product development and dissemination, training, and technical assistance activities as part of the implementation of the project;

(d) Evaluate the effectiveness of the replication of the model and its components or strategies by using multiple measures of results.

(e) Coordinate dissemination and replication activities conducted as part of outreach with dissemination projects, technical assistance providers, consumer and advocacy organizations, State and local educational agencies, and the lead agencies for Part C of IDEA, as appropriate; and

(f) Prepare products from the project in formats that are useful for specific audiences, including parents, administrators, teachers, early intervention personnel, related services personnel, and individuals with disabilities. (See section 661(f)(2)(B) of IDEA).

Federal financial participation for a project funded under this priority will not exceed 90 percent of the total annual costs of the project (see section 661(f)(2)(A) of IDEA).

In addition to the annual two-day Project Directors' meeting in Washington, DC mentioned in the “General Requirements” section of this notice, projects must budget annually for another annual meeting in Washington, DC to collaborate with the Federal project officer and the other projects funded under this priority, to share information and discuss project implementation issues.

Within absolute priority 5, we intend to fund no more than two projects focusing on postsecondary education for students with disabilities.

Competitive Preference

Within this absolute priority we will give the following competitive preference points under 34 CFR 75.105(c)(2)(i) to applications that are otherwise eligible for funding under this priority.

Up to ten (10) points to an application that employs randomized experimental designs in conducting evaluation of outreach activities.

Therefore, for the purpose of this competitive preference, an applicant can be awarded up to a total of 10 points in addition to those awarded under the published selection criteria for this priority. That is, an applicant meeting this competitive preference could earn a maximum total of 110 points.

Project Period: Up to 36 months.

Special Education—Personnel Preparation To Improve Services and Results for Children With Disabilities [CFDA Number 84.325]

Purpose of Program: The purposes of this program are to (1) help address State-identified needs for qualified personnel in special education, related services, early intervention, and regular education—to work with children with disabilities; and (2) ensure that those personnel have the skills and knowledge—derived from practices that have been determined through research and experience to be successful—that are needed to serve those children.

Eligible Applicants: Institutions of higher education are eligible applicants for Absolute Priorities 1-4 under this program.

Applicable Regulations: (a) The Education Department General Administrative Regulations (EDGAR) in 34 CFR parts 74, 75, 77, 79, 80, 81, 82, 85, 86, 97, 98, and 99; (b) The regulations for this program in 34 CFR part 304; and (c) The selection criteria chosen from the EDGAR general selection criteria in 34 CFR 75.210. The specific selection criteria for each priority are included in the application package for that competition.

Priorities

Under 34 CFR 75.105(c)(3) we consider only applications that meet one of the following priorities:

Absolute Priority 1—Preparation of Special Education, Related Services, and Early Intervention Personnel To Serve Infants, Toddlers, and Children With Low-Incidence Disabilities (84.325A) Background

The national demand for special education, related services, and early intervention personnel to serve infants, toddlers, and children with low-incidence disabilities exceeds available supply. However, because of the relatively small number of personnel needed to serve infants, toddlers, and children with low-incidence disabilities in each State, institutions of higher education and individual States have limited incentive to develop and support programs that train such personnel. Moreover, of the programs that do exist, many fail to produce graduates with the skills necessary to meet the needs of the low-incidence disability population. Thus, Federal support is required to increase the supply of personnel who possess the skills and experience necessary to serve children with low-incidence disabilities.

Priority

This priority supports projects that increase the number and quality of personnel to serve children with low-incidence disabilities by providing preservice preparation of special educators, early intervention personnel, and related services personnel at the associate, baccalaureate, master's, or specialist level. For the purpose of this priority, the term “low-incidence disability” means a visual or hearing impairment, or simultaneous visual and hearing impairments, a significant cognitive impairment, or any impairment for which a small number of personnel with highly specialized skills and knowledge are needed in order for children with that impairment to receive early intervention services or a free appropriate public education (IDEA, section 673(b)(3)). Training for personnel to serve children with mild-moderate mental retardation, specific learning disabilities, speech or language disorders, or emotional and behavioral disabilities is addressed under the priority for the preparation of personnel to serve children with high-incidence disabilities (84.325H), and, therefore, is not supported under this priority.

A preservice program is a program that leads toward a degree, certification, professional license or endorsement (or its equivalent), and may include the preparation of currently employed personnel who are seeking additional degrees, certifications, endorsements, or licenses.

Applicants may propose to prepare one or more of the following types of personnel:

(a) Early intervention personnel who serve children with low-incidence disabilities, ages birth through age 2 (until the third birthday),and their families. For the purpose of this priority, all children who require early intervention services are considered to have a low-incidence disability. Early intervention personnel include persons who train, or serve as consultants to, service providers and service coordinators;

(b) Special educators, including early childhood, speech and language, adapted physical education, and assistive technology, and paraprofessional personnel who work with children with low-incidence disabilities and their families; or

(c) Related services personnel who provide developmental, corrective, and other support services (such as psychological, occupational or physical and recreational therapy) to children with low-incidence disabilities and their families. Comprehensive programs and specialty components within a broader discipline that are designed to prepare personnel for work with the low-incidence population may be supported. For the purpose of this priority, eligible related service providers do not include physicians.

We particularly encourage projects that address the personnel needs of more than one State, provide multi-disciplinary training, and provide for collaboration among several training institutions and between training institutions and public schools. In addition, we encourage projects that foster successful coordination between special education and regular education professional development programs to meet the needs of children with low-incidence disabilities in inclusive settings.

Each project funded under this absolute priority must—

(a) Use curricula and pedagogy that are shown to be effective as demonstrated through scientifically based research, in order to prepare personnel equipped to improve outcomes for students with low-incidence disabilities, and foster appropriate access to and achievement in the general education curriculum whenever appropriate;

(b) Demonstrate how research-based curriculum and pedagogy are incorporated into training requirements and reflected in all relevant coursework for the proposed training program;

(c) Offer integrated training and practice opportunities that will enhance the collaborative skills of appropriate personnel who share responsibility for providing effective services to children with disabilities;

(d) Prepare personnel to address the specialized needs of children with low-incidence disabilities from diverse cultural and language backgrounds by—

(1) Determining the competencies needed for personnel to work effectively with culturally and linguistically diverse populations; and

(2) Infusing those competencies into early intervention, special education, and related services training programs;

(e) Develop or improve and implement mutually beneficial partnerships between training programs and schools to promote continuous improvement in preparation programs and service delivery;

(f) If field-based training is provided, include field-based training opportunities for students in schools and other diverse settings, including schools and settings in high poverty communities;

(g) If the project prepares personnel to provide services to visually impaired or blind children that can be appropriately provided in Braille, prepare those individuals to provide those services in Braille.

(h) Provide clear, defensible research-based methods for evaluating the extent to which graduates of the training program are prepared to provide high quality services that result in improved outcomes for children with disabilities; and communicate the results of this evaluation process to the Office of Special Education Programs (OSEP) in required annual performance reports and the final performance report;

(i) Describe how the proposed training program is aligned with State learning standards for children; and

(j) Include, in the application Appendix, all course syllabi that are relevant to the training program proposed. Course syllabi must clearly reflect the incorporation of research-based curriculum and pedagogy as required under paragraph (b) of this section of the priority.

To be considered for an award, an applicant must satisfy the following requirements contained in section 673(f)-(i) of the Act and 34 CFR part 304—

(a) Demonstrate, with letters from one or more States that the project proposes to serve, that such State or States need personnel in the area or areas in which the applicant proposes to provide preparation, as identified in the States' comprehensive systems of personnel development under Part B or C of the Act;

(b) Demonstrate that it has engaged in a cooperative effort with one or more SEAs or, if appropriate, lead agencies for providing early intervention services, to plan, carry out, and monitor the project;

(c) Provide letters from one or more States specifying that they intend to accept successful completion of the proposed personnel preparation program as meeting State personnel standards for serving children with disabilities or serving infants and toddlers with disabilities;

(d) Meet State and professionally-recognized standards for the preparation of special education, related services, or early intervention personnel;

(e) Ensure that individuals who receive financial assistance under the proposed project will meet the service obligation requirements, or repay all or part of the cost of that assistance, in accordance with section 673(h)(1) of the Act and the regulations in 34 CFR part 304. Applicants must describe how they will inform scholarship recipients of this service obligation requirement; and

(f) As authorized under section 673(i) of the Act and § 304.20 of the regulations, use at least 55 percent of the total requested budget for student scholarships.

Under this absolute priority, we plan to award approximately:

• 60 percent of the available funds for projects that support careers in special education, including early childhood educators;

• 10 percent of the available funds for projects that support careers in educational interpreter services for hearing impaired individuals;

• 15 percent of the available funds for projects that support careers in related services, other than educational interpreter services; and

• 15 percent of the available funds for projects that support careers in early intervention.

Competitive Preference

Within this absolute priority, we will give the following competitive preference points under section 673(g)(3)(B) of IDEA and 34 CFR 75.105(c)(2)(i) to applicant institutions that are otherwise eligible for funding under this priority:

Up to ten (10) points based on the extent to which IHEs successfully recruit and prepare individuals with disabilities and individuals from groups that are underrepresented in the profession for which they are preparing individuals.

Therefore, for purposes of this competitive preference, applicants can be awarded up to a total of 10 points in addition to those awarded under the published selection criteria for this priority. That is, an applicant meeting these competitive preferences could earn a maximum total of 110 points.

Project Period: Up to 60 months.

Absolute Priority 2—Preparation of Leadership Personnel (84.325D)

This priority supports projects that conduct the following activities for leadership personnel:

(a) Preparing personnel at the doctoral, and postdoctoral levels to administer, enhance, or to provide special education, related services, or early intervention services for children with disabilities; or

(b) Developing Master's and specialist level programs in special education administration.

Projects funded under this absolute priority must—

(a) Prepare leadership personnel to work with culturally and linguistically diverse populations by—

(1) Determining the competencies needed by leadership personnel to understand and work with culturally and linguistically diverse populations; and

(2) Infusing those competencies into early intervention, special education and related services training programs.

(b) Include coursework reflecting current research and pedagogy on—

(1) Participation and achievement in the general education curriculum and improved outcomes for children with disabilities; or

(2) The provision of coordinated services in natural environments to improve outcomes for infants and toddlers with disabilities and their families.

(c) Demonstrate how research-based curriculum and pedagogy are incorporated into training requirements and reflected in all relevant coursework for the proposed training program.

(d) Offer integrated training and practice opportunities that will enhance the collaborative skills of all personnel who share responsibility for providing effective services to children with disabilities.

(e) Provide clear, defensible research-based methods for evaluating the extent to which graduates of the training program are prepared to provide high quality services that result in improved outcomes for children with disabilities. Communicate the results of this evaluation process to OSEP in required annual performance reports and the final performance report;

(f) Describe, if appropriate, how the proposed training program is aligned with State learning standards for children; and

(g) Include, in the application Appendix, all course syllabi that are relevant to the training program proposed. Course syllabi must clearly reflect the incorporation of research-based curriculum and pedagogy as required under paragraph (c) of this section of the priority.

To be considered for an award, an applicant must satisfy the following requirements contained in section 673(f)-(i) of IDEA and 34 CFR part 304—

(a) Demonstrate, with letters from one or more States that the project proposes to serve, that each State needs personnel in the area or areas in which the applicant proposes to provide preparation, as identified in the State's comprehensive systems of personnel development under Parts B and C of IDEA;

(b) Demonstrate that it has engaged in a cooperative effort with one or more State educational agencies or, if appropriate, lead agencies for providing early intervention services, to plan, carry out, and monitor the project;

(c) Meet State and professionally recognized standards for the preparation of leadership personnel in special education, related services, or early intervention fields;

(d) Ensure that individuals who receive financial assistance under the proposed project will meet the service obligation requirements, or repay all or part of the cost of that assistance, in accordance with section 673(h)(2) of IDEA and the regulations in 34 CFR part 304. Applicants must describe how they will inform scholarship recipients of this service obligation requirement; and

(e) As authorized under section 673(i) of IDEA and § 304.20 of the regulations, use at least 65 percent of the total requested budget for student scholarships.

Competitive Preferences

Within this absolute priority, we will give the following competitive preference points under section 673(g)(3)(B) of IDEA and 34 CFR 75.105(c)(2)(i) to applicant institutions that are otherwise eligible for funding under this priority:

Up to ten (10) points based on the extent to which institutions of higher education successfully recruit and prepare individuals with disabilities and individuals from groups that are underrepresented in the profession for which they are preparing individuals.

Therefore, for purposes of these competitive preferences, applicants can be awarded up to a total of 10 points in addition to those awarded under the published selection criteria for this priority. That is, an applicant meeting these competitive preferences could earn a maximum total of 110 points.

Project Period: Up to 48 months.

Absolute Priority 3—Preparation of Personnel in Minority Institutions (84.325E)

This priority supports awards to IHEs with minority student enrollments of at least 25 percent, including Historically Black Colleges and Universities, for the purpose of preparing personnel to work with children with disabilities.

This priority supports projects that provide preservice preparation of special educators, early intervention personnel, and related services personnel at the associate, baccalaureate, master's, specialist, doctoral, or post-doctoral level.

A preservice program is a program that leads toward a degree, certification, professional license or endorsement (or its equivalent), and may include the preparation of currently employed personnel who are seeking additional degrees, certifications, endorsements, or licenses.

Applicants may propose to prepare one or more of the following types of personnel:

(a) Special educators, including early childhood, speech and language, adapted physical education, and assistive technology, and paraprofessional personnel who work with children with disabilities;

(b) Related services personnel who provide developmental, corrective, and other support services (such as psychological, occupational or physical and recreational therapy) to children with disabilities. Comprehensive programs and specialty components within a broader discipline that are designed to prepare personnel for work with children with disabilities, may be supported. For the purpose of this priority, eligible related services providers do not include physicians; or

(c) Early intervention personnel who serve children birth through age 2 (until the third birthday) and their families. Early intervention personnel include persons who train, or serve as consultants to, service providers and service coordinators.

Projects funded under this absolute priority must—

(a) Use curricula and pedagogy that are shown to be effective as demonstrated through scientifically based research in order to prepare personnel equipped to improve outcomes for students with disabilities and to foster access to and achievement in the general education curriculum where appropriate;

(b) Demonstrate how research-based curriculum and pedagogy are incorporated into training requirements and reflected in all relevant coursework for the proposed training program.

(c) Offer integrated training and practice opportunities that will enhance the collaborative skills of appropriate personnel who share responsibility for providing effective services to children with disabilities;

(d) Prepare personnel to address the specialized needs of children with disabilities from diverse cultural and language backgrounds by—

(1) Determining the competencies needed for personnel to work effectively with culturally and linguistically diverse populations; and

(2) Infusing those competencies into early intervention, special education, and related services training programs;

(e) Develop or improve and implement mutually beneficial partnerships between training programs and schools to promote continuous improvement in preparation programs and in service delivery;

(f) If field-based training is provided, include field-based training opportunities for students in schools and other diverse settings including schools and settings in high poverty communities;

(g) Employ effective strategies for recruiting students from culturally and linguistically diverse populations; and

(h) Provide student support systems (including tutors, mentors, and other innovative practices) to enhance student retention and success in the program.

(i) Provide clear, defensible research-based methods for evaluating the extent to which graduates of the training program are prepared to provide high quality services that result in improved outcomes for children with disabilities. Communicate the results of this evaluation process to OSEP in required annual performance reports and the final performance report;

(j) Describe how the proposed training program is aligned with State learning standards for children; and

(k) Include, in the application Appendix, all course syllabi that are relevant to the training program proposed. Course syllabi must clearly reflect the incorporation of research-based curriculum and pedagogy as required under paragraph (b) of this section of the priority

To be considered for an award, an applicant must satisfy the following requirements contained in section 673(f)-(i) of IDEA and 34 CFR part 304—

(a) Demonstrate, with letters from one or more States that the project proposes to serve, that each State needs personnel in the area or areas in which the applicant proposes to provide preparation, as identified in the State's comprehensive systems of personnel development under Parts B and C of IDEA;

(b) Demonstrate that it has engaged in a cooperative effort with one or more SEAs or, if appropriate, lead agencies for providing early intervention services, to plan, carry out, and monitor the project;

(c) Provide letters from one or more States specifying that they intend to accept successful completion of the proposed personnel preparation program as meeting State personnel standards for serving children with disabilities or serving infants and toddlers with disabilities;

(d) Meet State and professionally recognized standards for the preparation of special education, related services, or early intervention personnel, if the purpose of the project is to assist personnel in obtaining degrees;

(e) Ensure that individuals who receive financial assistance under the proposed project will meet the service obligation requirements, or repay all or part of the cost of that assistance, in accordance with section 673(h)(1) of IDEA and the regulations in 34 CFR part 304. Applicants must describe how they will inform scholarship recipients of this service obligation requirement; and

(f) As authorized under section 673(i) of IDEA and § 304.20 of the regulations, use at least 55 percent of the total requested budget for student scholarships or provide sufficient justification for any designation less than 55 percent of the total requested budget for student scholarships.

Sufficient justification for proposing less than 55 percent of the budget for student support would include activities such as program development, expansion of a program, or the addition of a new emphasis area. Examples include the following:

• A project that is starting a new program may request up to a year for program development and capacity building. In the initial project year, no student support would be required. Instead, a project could hire a new faculty member, or a consultant to assist in program development.

• A project that is proposing to build capacity may hire a field supervisor so that additional students can be trained.

• A project that is expanding or adding a new emphasis area to the program may initially need additional faculty or other resources such as expert consultants, additional training supplies or equipment that would enhance the program.

Projects that are funded to develop, expand, or to add a new emphasis area to special education or related services programs must provide information on how these new areas will be maintained once Federal funding ends.

Competitive Preferences

Within this absolute priority, we will give the following competitive preference points under 34 CFR 75.105(c)(2)(i) to applicant institutions that are otherwise eligible for funding under this priority:

Up to ten (10) points to applicant institutions that have not received a FY 2002 or FY 2003 award under the IDEA personnel preparation program.

In addition, we will give the following competitive preference points under section 673(g)(3)(B) of IDEA and 34 CFR 75.105(c)(2)(i) to applicant institutions that are otherwise eligible for funding under this priority:

Up to ten (10) points based on the extent to which IHEs successfully recruit and prepare individuals with disabilities and individuals from groups that are underrepresented in the profession for which they are preparing individuals.

Therefore, for purposes of these competitive preferences applicants can be awarded up to a total of 20 points in addition to those awarded under the published selection criteria for this priority. That is, an applicant meeting all of these competitive preferences could earn a maximum total of 120 points.

Project Period: Up to 48 months.

Absolute Priority 4—Improving the Preparation of Personnel To Serve Children with High-Incidence Disabilities (84.325H)

Background

State agencies, university training programs, local schools, and other community-based agencies and organizations confirm both the importance and the difficulty of improving training programs for personnel to serve children with high-incidence disabilities. Localities nationwide are experiencing chronic shortages of such personnel.

Priority

Consistent with section 673(e) of IDEA, the purpose of this priority is to develop or improve, and implement, programs that provide preservice preparation for special and regular education teachers and related services personnel in order to meet the diverse needs of children with high incidence disabilities and to enhance the supply of well-trained personnel to serve these children in areas of chronic shortage. For the purpose of this priority, the term high-incidence disability includes mild or moderate mental retardation, speech or language impairments, emotional disturbance, or specific learning disabilities. Training of early intervention personnel is addressed under the priority for the preparation of personnel to serve children with low-incidence disabilities (84.325A) and, therefore, is not included as part of this priority.

A preservice program is a program that leads toward a degree, certification, professional license or endorsement (or its equivalent), and may include the preparation of currently employed personnel who are seeking additional degrees, certifications, endorsements, or licenses.

Applicants may propose to prepare one or more of the following types of personnel:

(a) Special educators, including early childhood, speech and language, adapted physical education, assistive technology, and paraprofessional personnel who work with children with high-incidence disabilities.

(b) Related services personnel, who provide developmental, corrective, and other support services (such as psychological, occupational or physical and recreational therapy) to children with high-incidence disabilities. For the purpose of this priority, eligible related service providers do not include physicians. Comprehensive programs and specialty components within a broader discipline that are designed to prepare personnel to work with the high incidence population may be supported.

Projects funded under this priority must—

(a) Use curricula and pedagogy that are shown to be effective, as demonstrated through scientifically based research, in order to prepare personnel equipped to improve outcomes for students with disabilities;

(b) Demonstrate how research-based curriculum and pedagogy are incorporated into training requirements and reflected in all relevant coursework for the proposed training program.

(c) Offer integrated training and practice opportunities that will enhance the collaborative skills of personnel who share responsibility for providing effective services to children with high-incidence disabilities;

(d) Prepare personnel to work with culturally and linguistically diverse populations by—

(1) Determining the competencies needed for personnel to work effectively with students with high-incidence disabilities from culturally and linguistically diverse backgrounds; and

(2) Infusing those competencies into special education or related services training;

(e) Develop or improve and implement partnerships that are mutually beneficial to grantees and LEAs in order to promote continuous improvement of preparation programs; and

(f) Include field-based training opportunities for students in diverse settings, including high poverty schools;

(g) Provide clear, defensible research-based methods for evaluating the extent to which graduates of the training program are prepared to provide high quality services that result in improved outcomes for children with disabilities; Communicate the results of this evaluation process to OSEP in annual performance reports and the final performance report;

(h) Describe how the proposed training program is aligned with State learning standards for children; and

(i) Include, in the application Appendix, all course syllabi that are relevant to the training program proposed. Course syllabi must clearly reflect the incorporation of research-based curriculum and pedagogy as required under paragraph (b) of the requirements for projects funded under this priority.

An applicant must satisfy the following requirements contained in section 673(f)-(i) of IDEA and 34 CFR part 304:

(a) Demonstrate, with letters from one or more States that the project proposes to serve, that each State needs personnel in the area or areas in which the applicant proposes to provide preparation, as identified in the State's comprehensive systems of personnel development under Part B of IDEA;

(b) Demonstrate that it has engaged in a cooperative effort with one or more State educational agencies to plan, carry out, and monitor the project;

(c) Provide letters from one or more States stating that they intend to accept successful completion of the proposed personnel preparation program as meeting State personnel standards for serving children with disabilities;

(d) Meet State and professionally recognized standards for the preparation of special education and related services personnel;

(e) Ensure that individuals who receive financial assistance under the proposed project will meet the service obligation requirements, or repay all or part of the cost of that assistance, in accordance with section 673(h)(1) of IDEA and the regulations in 34 CFR part 304. Applicants must describe how they will inform scholarship recipients of this service obligation requirement; and

(f) As authorized under section 673(i) of IDEA and § 304.20 of the regulations, use at least 65 percent of the total requested budget for student scholarships.

Competitive Preferences

Within this absolute priority we will give the following competitive preference points under section 673(g)(3)(B) of IDEA and 34 CFR 75.105(c)(2)(i) to applications that are otherwise eligible for funding under this priority.

Up to ten (10) points based on the extent to which IHEs successfully recruit and prepare individuals with disabilities and individuals from groups that are underrepresented in the profession for which they are preparing individuals.

Therefore, for the purpose of this competitive preference, applicants can be awarded up to a total of 10 points in addition to those awarded under the published selection criteria for this priority. That is, an applicant meeting this competitive preference could earn a maximum total of 110 points.

Project Period: Up to 48 months.

Special Education-Technology and Media Services for Individuals With Disabilities [CFDA Number 84.327]

Purpose of Program: To: (1) Improve results for children with disabilities by promoting the development, demonstration, and use of technology; (2) support educational media activities designed to be of educational value to children with disabilities; and (3) provide support for some captioning, video description, and cultural activities.

This priority focuses on the use of technology.

Applicable Regulations: (a) The Education Department General Administrative Regulations (EDGAR) in 34 CFR parts 74, 75, 77, 79, 80, 81, 82, 85, 86, 97, 98, and 99; and (b) The selection criteria for this priority are chosen from the EDGAR general selection criteria in 34 CFR 75.210. The specific selection criteria for this priority are included in the application package for this competition.

Note: The regulations in 34 CFR part 86 apply to IHEs only.

Eligible Applicants: State and local educational agencies; IHEs; other public agencies; nonprofit private organizations; outlying areas; freely associated States; Indian tribes or tribal organizations; and for-profit organizations.

Priority

Under 34 CFR 75.105(c)(3), we consider only applications that meet the following priority:

Absolute Priority 1—Steppingstones of Technology Innovation for Students With Disabilities (84.327A).

The purpose of this priority is to support projects that—

(a) Develop a technology-based approach for achieving one or more of the following purposes for early intervention, preschool, elementary, middle school, or high school students with disabilities: (1) Improving the results of education or early intervention; (2) improving access to and participation in the general curriculum, or developmentally appropriate activities for preschool children; and (3) improving accountability and participation in educational reform. The technology-based approach must be an innovative combination of a new technology and additional materials and methodologies that enable the technology to improve educational or early intervention results for children with disabilities;

(b) Justify the approach on the basis of scientifically rigorous research or theory that supports the effectiveness of the technology-based approach for achieving one or more of the purposes presented in paragraph (a);

(c) Clearly identify and conduct work in ONE of the following phases:

(1) Phase 1—Development: Projects funded under Phase 1 must develop and refine a technology-based approach, and test its feasibility for use with students with disabilities. Activities may include development, adaptation, and refinement of technology, curriculum materials, or instructional methodologies. Activities must include formative evaluation. The primary product of Phase 1 should be a promising technology-based approach that is suitable for field-based evaluation of effectiveness in improving results for children with disabilities.

(2) Phase 2—Research on Effectiveness: Projects funded under Phase 2 must select a promising technology-based approach that has been developed and tested in a manner consistent with Phase 1, and subject the approach to rigorous field-based research and evaluation to determine effectiveness and feasibility in educational or early intervention settings. Approaches studied in Phase 2 may have been developed with previous funding under this priority or with funding from other sources. Products of Phase 2 include a further refinement and description of the technology-based approach, and sound evidence that, in a defined range of real world contexts, the approach can be effective in achieving one or more of the purposes presented in paragraph (a) of this priority.

(3) Phase 3—Research on Implementation: Projects funded under Phase 3 must select a technology-based approach that has been evaluated for effectiveness and feasibility in a manner consistent with Phase 2. Projects must study the implementation of the approach in multiple, complex settings to acquire an improved understanding of the range of contexts in which the approach can be used effectively, and the factors that determine the effectiveness and sustainability of the approach in this range of contexts.

Approaches studied in Phase 3 may have been developed, tested, researched, and evaluated with previous funding under this priority or with funding from other sources. Factors to be studied in Phase 3 include factors related to the technology, materials, and methodologies that constitute the technology-based approach. Also to be studied in Phase 3 are contextual factors associated with students, teacher attitudes and skills, physical setting, curricular and instructional or early intervention approaches, resources, professional development, policy supports, etc.

Phases 2 and 3 can be contrasted as follows: Phase 2 studies the effectiveness the approach can have, while Phase 3 studies the effectiveness the approach is likely to have in sustained use in a range of typical educational settings. The primary product of Phase 3 should be a set of research findings that provide evidence of improved results for children with disabilities and that can be used to guide dissemination and utilization of the technology-based approach;

(d) In addition to the annual two-day Project Directors' meeting in Washington, DC mentioned in the “General Requirements” section of this notice, budget for another annual trip to Washington, DC to collaborate with the Federal project officer and the other projects funded under this priority, and to share information and discuss findings and methods of dissemination; and

(e) Prepare products from the project in formats that are useful for specific audiences as appropriate, including parents, administrators, teachers, early intervention personnel, related services personnel, researchers, and individuals with disabilities.

Within absolute priority 1, we intend to fund at least two projects focusing on technology-based approaches for children with disabilities, ages birth to 3.

Project Period: We intend to fund at least three projects in each phase. Projects funded under Phase 1 will be funded for up to 24 months. Projects funded under Phase 2 will be funded for up to 24 months. Projects funded under Phase 3 will be funded for up to 36 months.

Special Education—Training and Information for Parents of Children With Disabilities [CFDA Number 84.328]

Purpose of Program: The purpose of this program is to ensure that parents of children with disabilities receive training and information to help improve results for their children.

Eligible Applicants: Eligible applicants are local parent organizations. According to section 682(g) of IDEA, a parent organization is a private nonprofit organization (other than an institution of higher education) that:

(a) Has a board of directors—

(1) The parent and professional members of which are broadly representative of the population to be served;

(2) The majority of whom are parents of children with disabilities; and

(3) That includes individuals with disabilities and individuals working in the fields of special education, related services, and early intervention; or

(b) Has a membership that represents the interests of individuals with disabilities and has established a special governing committee meeting the requirements for a board of directors in paragraph (a) and has a memorandum of understanding between this special governing committee and the board of directors of the organization that clearly outlines the relationship between the board and the committee and the decisionmaking responsibilities and authority of each.

According to section 683(c) of IDEA, local parent organizations are parent organizations that must meet one of the following criteria—

(a) Have a board of directors the majority of whom are from the community to be served; or

(b) Have, as part of their mission, serving the interests of individuals with disabilities from that community; and have a special governing committee to administer the project, a majority of the members of which are individuals from that community.

Examples of administrative responsibilities include controlling the use of the project funds, and hiring and managing project personnel.

Applicable Regulations: (a) The Education Department General Administrative Regulations (EDGAR) in 34 CFR parts 74, 75, 77, 79, 80, 81, 82, 85, 97, 98, and 99; and (b) The selection criteria, chosen from the EDGAR general selection criteria in 34 CFR 75.210. The specific selection criteria for this priority are included in the application package for this competition.

Priority

Under 34 CFR 75.105(c)(3), we consider only applications that meet the following priority:

Absolute Priority—Community Parent Resource Centers (84.328C)

Background

The purpose of this priority is to support local parent organizations to operate community training and information centers that will help ensure that underserved parents of children with disabilities, including low-income parents, parents of children who are English language learners, and parents with disabilities in a community, have the training and information they need to enable them to participate effectively in helping their children with disabilities to—

(a) Meet established developmental goals and, to the maximum extent possible, those challenging standards that have been established for all children; and

(b) Be prepared to lead productive independent adult lives, to the maximum extent possible.

Priority

Each community parent training and information center supported under this priority must—

(a) Provide training and information that meets the training and information needs of parents of children with disabilities proposed to be served by the project, particularly underserved parents and parents of children who may be inappropriately identified;

(b) Assist parents to understand the availability of, and how to effectively use, procedural safeguards under section 615 of IDEA, including encouraging the use, and explaining the benefits, of alternative methods of dispute resolution, such as the mediation process described in IDEA;

(c) Serve the parents of infants, toddlers, and children with the full range of disabilities by assisting parents to—

(1) Better understand the nature of their children's disabilities and their educational and developmental needs;

(2) Communicate effectively with personnel responsible for providing special education, early intervention, and related services;

(3) Participate in decisionmaking processes including State and local assessment, the development of individualized education programs and individualized family service plans;

(4) Obtain appropriate information about the range of options, programs, services, and resources available to assist children with disabilities and their families;

(5) Familiarize themselves with the provision of special education and related services in the areas they serve to help ensure that children with disabilities are receiving appropriate services;

(6) Understand the provisions of IDEA and the No Child Left Behind Act of 2001 (NCLB) for the education of, and the provision of early intervention services designed to improve results for, children with disabilities; and

(7) Participate in school reform activities;

(d) Contract with the SEAs, if the State elects to contract with the community parent resource centers, for the purpose of meeting with parents who choose not to use the mediation process to encourage the use and explain the benefits of mediation, consistent with section 615(e)(2)(B) and (D) of IDEA;

(e) In order to serve parents and families of children with the full range of disabilities, network with appropriate clearinghouses, including organizations conducting national dissemination activities under section 685(d) of IDEA, and with other national, State, and local organizations and agencies, such as protection and advocacy agencies;

(f) Establish cooperative partnerships with the parent training and information centers funded under section 682 of IDEA;

(g) Be designed to meet the specific needs of families who experience significant isolation from available sources of information and support; and

(h) Annually report to the Department on—

(1) The number of parents to whom it provided information and training in the most recently concluded fiscal year, including demographic information about those parents served, and additional information regarding the unique needs and levels of service provided;

(2) The effectiveness of strategies used to reach and serve parents, including underserved parents of children with disabilities, by providing evidence of how those parents were served effectively.

Competitive Preferences

Within this absolute priority, we will give competitive preference to applications under 34 CFR 75.105(c)(2)(i) that meet one or more of the following priorities:

(a) We will award 20 points to an application submitted by a local parent organization that has a board of directors, the majority of whom are parents of children with disabilities, from the community to be served.

(b) We will award 5 points to an application that proposes to provide services to one or more Empowerment Zones or Enterprise Communities that are designated within the areas served by projects. To meet this priority an applicant must indicate that it will—

(1)(i) Design a program that includes special activities focused on the unique needs of one or more Empowerment Zones or Enterprise Communities; or

(ii) Devote a substantial portion of program resources to providing services within, or meeting the needs of residents of these zones and communities.

(2) As appropriate, contribute to the strategic plan of the Empowerment Zones or Enterprise Communities and become an integral component of the Empowerment Zone or Enterprise Community activities.

A list of areas that have been selected as Empowerment Zones or Enterprise Communities is included in the application package.

Therefore, for purposes of these competitive preferences, applicants can be awarded up to a total of 25 points in addition to those awarded under the published selection criteria for this priority. That is, an applicant meeting all of these competitive preferences could earn a maximum total of 125 points.

Project Period: Up to 36 months.

Individuals With Disabilities Education Act—Application Notice for Fiscal Year 2003
CFDA No. and name | Applications available | Application deadline date | Deadline for intergovernmental review | Estimated available funds | Maximum award (per year)* | Estimated range of awards | Project period | Page limit | Estimated number of awards
84.324B Student-Initiated Research Projects | 12/24/02 | 03/07/03 | 05/06/03 | $240,000 | $20,000 | $14,122-$20,000 | Up to 12 mos | 25 | 12
84.324C Field-Initiated Research Projects | 12/24/02 | 02/21/03 | 04/22/03 | 2,520,000 | 180,000 | $177,318-$180,000 | Up to 60 mos.** | 50 | 14
84.324M Model Demonstration Projects for Children with Disabilities | 12/24/02 | 03/14/03 | 05/13/03 | 2,450,000 | 175,000 | $173,947-$175,000 | Up to 48 mos | 50 | 14
84.324N Initial Career Awards | 12/24/02 | 02/14/03 | 04/15/03 | 300,000 | 75,000 | $72,170-$75,000 | Up to 36 mos | 30 | 4
84.324R Outreach Projects for Children with Disabilities | 12/24/02 | 03/28/03 | 05/27/03 | 2,450,000 | 175,000 | $168,690-$175,000 | Up to 36 mos | 50 | 14
84.325A Preparation of Special Education, Related Services, and Early Intervention Personnel to Serve Infants, Toddlers, and Children with Low-Incidence Disabilities | 12/24/02 | 02/14/03 | 04/15/03 | 5,000,000 | 250,000 | $150,000-$250,000 | Up to 60 mos | 50 | 20
84.325D Preparation of Leadership Personnel | 12/24/02 | 02/07/03 | 04/08/03 | 3,500,000 | 200,000 | $171,969-$200,000 | Up to 48 mos | 50 | 18
84.325E Preparation of Personnel in Minority Institutions | 12/24/02 | 03/21/03 | 05/20/03 | 3,000,000 | 200,000 | $186,234-$200,000 | Up to 48 mos | 50 | 15
84.325H Improving the Preparation of Personnel to Serve Children with High-Incidence Disabilities | 12/24/02 | 02/28/03 | 04/29/03 | 5,700,000 | 200,000 | $163,848-$200,000 | Up to 48 mos. | 50 | 28
84.327A Steppingstones of Technology Innovation for Students with Disabilities | 12/24/02 | 02/07/03 | 04/08/03 | 2,900,000 |  |  |  |  | 14
Phase 1 and 2 |  |  |  |  | 200,000 | $196,946-$300,000 | Up to 24 mos | 50 |
Phase 3 |  |  |  |  | 300,000 |  | Up to 36 mos | 50 |
84.328C Community Parent Resource Centers | 12/24/02 | 02/07/03 | 04/08/03 | 1,000,000 | 100,000 | $99,000-$100,000 | Up to 36 mos | 30 | 10
* We will reject any application that proposes a budget exceeding the maximum award (exclusive of any matching funds required in CFDA 84.324M and CFDA 84.324R) for a single budget period of 12 months.
** See PROJECT PERIOD section of priority for additional information.
Note:The Department of Education is not bound by any estimates in this notice.

For Applications Contact: If you want an application for any competition in this notice, contact Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site: http://www.ed.gov/pubs/edpubs.html. or you may contact ED Pubs at its e-mail address: edpubs@inet.ed.gov.

If you request an application from ED Pubs, be sure to identify the competition by the appropriate CFDA number.

FOR FURTHER INFORMATION CONTACT: If you want an additional information about any competition in this notice, contact the Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT. However, the Department is not able to reproduce in an alternative format the standard forms included in the application package.

Intergovernmental Review

All programs in this notice (except for the Research and Innovation to Improve Services and Results for Children with Disabilities Program) are subject to the requirements of Executive Order 12372 and the regulations in 34 CFR part 79. One of the objectives of the Executive Order is to foster an intergovernmental partnership and a strengthened federalism. The Executive order relies on processes developed by State and local governments for coordination and review of proposed Federal financial assistance. This document provides early notification of our specific plans and actions for these programs.

Electronic Access to This Document

You may view this document, as well as all other Department of Education documents published in the Federal Register, in text or Adobe Portable Document Format (PDF) on the internet at the following site: http://www.ed.gov/legislation/FedRegister. To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1405, 1461, 1471, 1472, 1473, 1481, 1482, and 1483.
Dated: December 17, 2002.
Robert H. Pasternack,
Assistant Secretary for Special Education and Rehabilitative Services.

[FR Doc. 02-32273 Filed 12-23-02; 8:45 am]

BILLING CODE 4000-01-P